DEPARTMENT OF TRANSPORTATION

Federal Aviation Administration

14 CFR Part 71

[Docket No. FAA-2024-2513; Airspace Docket No. 24-ASO-14]

RIN 2120-AA66

Amendment of Domestic Very High Frequency Omnidirectional Range (VOR) Federal Airways V-7, V-35, V-157, V-159, and V-198; Eastern United States

AGENCY: Federal Aviation Administration (FAA), DOT.

ACTION: Final rule.

SUMMARY: This action amends domestic Very High Frequency Omnidirectional Range (VOR) Federal Airways V-7, V-35, V-157, V-159, and V-198 in the eastern United States. The FAA is taking this action due to the planned decommissioning of the Cross City, FL (CTY), VOR/Tactical Air Navigation (VORTAC) and the Taylor, FL (TAY), VORTAC. This action is in support of the FAA's VOR Minimum Operational Network (MON) Program.

DATES: Effective date 0901 UTC, August 7, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a NPRM for Docket No. FAA 2024-2513 in the Federal Register (89 FR 93235; November 26, 2024), proposing to amend domestic VOR Federal Airways V-7, V-35, V-157, V-159, and V-198 in the eastern United States. Interested parties were invited to participate in this rulemaking effort by submitting written comments on the proposal to the FAA. No comments were received.

Differences From the NPRM

Subsequent the NPRM, the FAA published a final rule for Docket No. FAA-2024-1848 in the Federal Register (90 FR 9216; February 10, 2025), amending VOR Federal Airway V-35, V-157, and V-159. That final rule amended VOR Federal Airway V-35 by removing the airway segments between the Dolphin, FL (DHP), VORTAC and the Lee County, FL (RSW), VORTAC due to the scheduled decommissioning of the Cypress, FL (CYY), VOR/Distance Measuring Equipment (VOR/DME). Additionally, that final rule amended VOR Federal Airway V-157 by removing the airway segments between the Dolphin VORTAC and the Lakeland, FL (LAL), VORTAC due to the scheduled decommissioning of the La Belle, FL (LBV), VORTAC. Finally, that final rule amended VOR Federal Airway V-159 by removing the airway segments between the Virginia Key, FL (VKZ), VOR/DME and the intersection of the Melbourne, FL (MLB), VOR/DME 269° and the Orlando, FL (ORL), VORTAC 140° radials (DEARY Fix) due to the scheduled decommissioning of the Treasure, FL (TRV), VORTAC. Those route amendments are effective April 17, 2025, and are included in this final rule.

Incorporation by Reference

Domestic VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document.

FAA Order JO 7400.11J lists Class A, B, C, D, and E airspace areas, air traffic service routes, and reporting points.

The Rule

This action amends 14 CFR part 71 by amending domestic VOR Federal Airways V-7, V-35, V-157, V-159, and V-198 to support the planned decommissioning of the Cross City, FL (CTY), VORTAC and the Taylor, FL (TAY), VORTAC. This action is in support of the FAA's VOR MON Program. The ATS route changes are described below.

V-7: Prior to this final rule, V-7 extended between the Dolphin, FL (DHP), VORTAC and the Vulcan, AL, (VUZ), VORTAC; and between the Pocket City, IN (PXV), VORTAC and the intersection of the Chicago Heights, IL (CGT), VORTAC 358° and the Badger, WI (BAE), VOR/DME 117° radials (PETTY Fix). The FAA removes the airway segments between the Lakeland, FL (LAL), VORTAC and the Seminole, FL (SZW), VORTAC due to the scheduled decommissioning of the Cross City, FL (CTY), VORTAC. As amended, the route extends between the Dolphin VORTAC and the Lakeland VORTAC; between the Seminole VORTAC and the Vulcan VORTAC; and between the Pocket City VORTAC and the PETTY Fix.

V-35: Prior to this final rule, V-35 extended between the Lee County, FL (RSW), VORTAC and the Pecan, GA (PZD), VOR/DME, between the intersection of the Dublin, GA (DBN), VORTAC 309° and the Athens, GA (AHN), VOR/DME 195° radials (SINCA Fix) and the Morgantown, WV (MGW), VOR/DME; and between the Philipsburg, PA (PSB), VORTAC and the Stonyfork, PA (SFK), VOR/DME. The FAA removes the airway segments between the St. Petersburg, FL (PIE), VORTAC and the Greenville, FL (GEF), VORTAC due to the scheduled decommissioning of the Cross City, FL (CTY), VORTAC; and removes the airway segment between the Greenville VORTAC and the Pecan VOR/DME due to the segment being no longer needed as redundant navigation capability is provided by VOR Federal Airway V-159.

As amended, the route extends between the Lee County VORTAC and the St. Petersburg VORTAC; between the SINCA Fix and the Morgantown VOR/DME; and between the Philipsburg VORTAC and the Stonyfork VOR/DME.

V-157: Prior to this final rule, V-157 extended between the Key West, FL (EYW), VORTAC and the Dolphin, FL (DHP), VORTAC; between the Lakeland, FL (LAL), VORTAC and the Waycross, GA (AYS), VORTAC; between the Florence, SC (FLO), VORTAC and the Tar River, NC (TYI), VORTAC; and between the Robbinsville, NJ (RBV), VORTAC and the Albany, NY (ALB), VORTAC. The FAA removes the airway segments between the Ocala, FL (OCF), VORTAC and the Waycross VORTAC and replaces it with the Gators, FL (GNV), VORTAC; the intersection of the Gators VORTAC 343° True (T)/347° Magnetic (M) and the Waycross VORTAC 180°T/180°M radials; Waycross VORTAC due to the scheduled decommissioning of the Taylor, FL (TAY), VORTAC. Additionally, The FAA extends VOR Federal Airway V-157 to the north between the Waycross VORTAC and the Dublin, GA (DBN), VORTAC due to a need by the Department of Defense for navigation capability between the Ocala, FL, and the Dublin, GA, areas. As amended, the route extends between the Key West VORTAC and the Dolphin VORTAC; between the Lakeland VORTAC and the Dublin VORTAC; between the Florence VORTAC and the Tar River VORTAC; and between the Robbinsville VORTAC and the Albany VORTAC.

V-159: Prior to this final rule, V-159 extended between the intersection of the Melbourne, FL (MLB), VOR/DME 269° and the Orlando, FL (ORL), VORTAC 140° radials (DEARY Fix) and the Vulcan, AL (VUZ), VORTAC; and between the Holly Springs, MS (HLI), VORTAC and the Omaha, IA (OVR), VORTAC. The FAA removes the airway segments between the Ocala, FL (OCF), VORTAC and the Greenville, FL (GEF), VORTAC due to the scheduled decommissioning of the Cross City, FL (CTY), VORTAC. As amended, the route extends between the DEARY Fix and the Ocala VORTAC; between the Greenville VORTAC and the Vulcan VORTAC; and between the Holly Springs VORTAC and the Omaha VORTAC.

V-198: Prior to this final rule, V-198 extended between the San Simon, AZ (SSO), VORTAC and the San Antonio, TX (SAT), VORTAC; and between the Sabine Pass, TX (SBI), VOR/DME and the Craig, FL (CRG), VORTAC. The FAA removes the Taylor, FL (TAY), VORTAC from the route and updates the definition of the MONIA Fix as the intersection of the Greenville, FL (GEF), VORTAC 092° T/091°M and the Craig VORTAC 287°T/290°M radials due to the scheduled decommissioning of the Taylor VORTAC. The FAA also removes multiple altitude floor restrictions in the route description of VOR Federal Airway V-198 as they are no longer necessary. As amended, the route continues to extend between the San Simon VORTAC and the San Antonio VORTAC; and between the Sabine Pass VOR/DME and the Craig VORTAC.

The navigational aid radials listed in the VOR Federal airway description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending domestic VOR Federal Airways V-7, V-35, V-157, V-159, and V-198 in the eastern United States, qualifies for categorical exclusion under the National Environmental Policy Act (42 U.S.C. 4321 et seq.) and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways). . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-7 [Amended]

From Dolphin, FL; INT Dolphin 299° and Lee County, FL, 120° radials; Lee County; to Lakeland, FL. From Seminole, FL; Wiregrass, AL; INT Wiregrass 333° and Montgomery, AL, 129° radials; Montgomery; to Vulcan, AL. From Pocket City, IN; INT Pocket City 016° and Terre Haute, IN, 191° radials; Terre Haute; Boiler, IN; Chicago Heights, IL; to INT Chicago Heights 358° and Badger, WI, 117° radials.

* * * * *

V-35 [Amended]

From Lee County, FL; INT Lee County 326° and St. Petersburg, FL, 152° radials; to St. Petersburg. From INT Dublin, GA, 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; to Stonyfork, PA.

* * * * *

V-157 [Amended]

From Key West, FL; INT Key West 038° and Dolphin, FL, 244° radials; to Dolphin; From Lakeland, FL; Ocala, FL; Gators, FL; INT Gators 343° and Waycross, GA, 180° radials; Waycross; to Dublin, GA. From Florence, SC; Fayetteville, NC; Kinston, NC; to Tar River, NC. From Robbinsville, NJ; INT Robbinsville 044° and LaGuardia, NY, 213° radials; LaGuardia; INT LaGuardia 032° and Deer Park, NY, 326° radials; INT Deer Park 326° and Kingston, NY, 191° radials; Kingston; to Albany, NY.

* * * * *

V-159 [Amended]

From INT Melbourne, FL, 269° and Orlando, FL, 140° radials; Orlando; to Ocala, FL. From Greenville, FL; Pecan, GA; Eufaula, AL; INT Eufaula 320° and Vulcan, AL, 139° radials; to Vulcan. From Holly Springs, MS; Gilmore, AR; Walnut Ridge, AR; Dogwood, MO; Springfield, MO; Napoleon, MO; INT Napoleon 005° and St. Joseph, MO, 122° radials; St. Joseph; to Omaha, IA.

* * * * *

V-198 [Amended]

From San Simon, AZ; Columbus, NM; El Paso, TX; 6 miles wide INT El Paso 109° and Hudspeth, TX, 287° radials; 6 miles wide Hudspeth; INT Hudspeth 109° and Fort Stockton, TX, 284° radials; Fort Stockton; Junction, TX; to San Antonio, TX. From Sabine Pass, TX; White Lake, LA; Tibby, LA; Harvey, LA; Brookley, AL; INT Brookley 056° and Crestview, FL, 266° radials; Crestview; Marianna, FL; Seminole, FL; Greenville, FL; INT Greenville 092° and Craig, FL, 287° radials; to Craig.

* * * * *

Issued in Washington, DC, on May 15, 2025.
Brian Eric Konie,
Manager (A), Rules and Regulations Group.

[FR Doc. 2025-08973 Filed 5-19-25; 8:45 am]

BILLING CODE 4910-13-P